NATIONAL ARCHIVES AND RECORDS ADMINISTRATION

[NARA-2019-011]

Agency Information Collection Activities: Proposed Collection; Comment Request

AGENCY: National Archives and Records Administration (NARA).

ACTION: Notice.

SUMMARY: NARA gives public notice that it proposes to request an extension of an approved information collection, Identification Card Request (now being renamed Facility Access Media (FAM) Request to comply with changes in Government-wide terminology), NA Form 6006. The form is used by all individuals requesting recurring access to non-public areas of NARA's facilities and IT network. We invite you to comment on this proposed information collection pursuant to the Paperwork Reduction Act of 1995.

DATES: We must receive written comments on or before April 16, 2019.

ADDRESSES: Send comments to Paperwork Reduction Act Comments (MP), Room 4100; National Archives and Records Administration; 8601 Adelphi Road; College Park, MD 20740-6001, fax them to 301-837-7409, or email them to tamee.fechhelm@nara.gov.

FOR FURTHER INFORMATION CONTACT: Contact Tamee Fechhelm by telephone at 301-837-1694 or fax at 301-837-7409 with requests for additional information or copies of the proposed information collection and supporting statement.

SUPPLEMENTARY INFORMATION: Pursuant to the Paperwork Reduction Act of 1995 (Pub. L. 104-13), we invite the public and other Federal agencies to comment on proposed information collections. The comments and suggestions should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether the collection affects small businesses. We will summarize any comments you submit and include the summary in our request for Office of Management and Budget (OMB) approval. All comments will become a matter of public record. In this notice, we solicit comments concerning the following information collection:

Title: Facility Access Media (FAM) Request (changing from Identification Card Request).

OMB number: 3095-0057.

Agency form numbers: NA Form 6006.

Type of review: Regular.

Affected public: Individuals or households.

Estimated number of respondents: 1,500.

Estimated time per response: 3 minutes.

Frequency of response: On occasion.

Estimated total annual burden hours: 75.

Abstract: The Facility Access Media (FAM) Request, NA Form 6006, is completed by all individuals requiring recurring access to non-public areas of NARA's facilities and IT network (such as NARA employees, contractors, volunteers, NARA-related foundation employees, volunteers, interns, and other non-NARA Federal employees, such as Federal agency reviewers) herein referred to as “applicants,” in order to obtain NARA Facility Access Media (FAM). After approval of the request, the applicant is given a FAM, if approved, and is then able to access non-public areas of NARA facilities and IT network.

The collection of information is necessary to comply with Homeland Security Presidential Directive (HSPD) 12 requirements for secure and reliable forms of personal identification issued by Federal agencies to their employees, contractors, and other individuals requiring recurring access to non-public areas of Government facilities and information services. The name change is necessary to comply with changes in Government-wide terminology so that the request refers to all types of access media, not just identification cards. This form was developed to comply with this requirement.

Swarnali Haldar,
Executive for Information Services/CIO.

[FR Doc. 2019-02512 Filed 2-14-19; 8:45 am]

BILLING CODE 7515-01-P